DEPARTMENT OF DEFENSE

Department of the Army

Availability for Non-Exclusive, Exclusive, or Partially Exclusive Licensing of U.S. Patent Application Concerning Digital Radiographic Sensor View Capture

AGENCY: Department of the Army, DoD.

ACTION: Notice.

SUMMARY: In accordance with 37 CFR 404.6, announcement is made of the availability for licensing of U.S. Patent Application No. 09/954,678 entitled “Digital Radiographic Sensor View Capture” filed Sept. 14, 2001. Foreign Rights are also available (PCT/US01/29662). The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: An apparatus including but not limited to a charge-coupled device (CCD)-array sensor positioning mechanism, the positioning mechanism structured to position a CCD-array sensor to capture a first target area; and the CCD-array sensor to capture a second target area proximate to the first target area, the first and second target areas spatially related such that a first radiographic image recorded at the first target area may be combined with a second radiographic image recorded at the second target area to form a composite radiographic image substantially analogous to a single radiographic image of an aggregate target area covered by the first and second target areas. A related method that includes but is not limited to recording a first radiographic image of a first target area using CCD-array sensor techniques; recording a second radiographic image of a second target area, the second target area proximate to the first target area, using CCD-array sensor techniques; and displaying a composite image constructed from the first and second image.

Luz D. Ortiz,
Army Federal Register Liaison Officer.

[FR Doc. 02-5901 Filed 3-11-02; 8:45 am]

BILLING CODE 3710-08-M